DEPARTMENT OF COMMERCE

U.S. Census Bureau

Proposed Information Collection; Comment Request; Precanvass Operation for the 2012 Economic Census Covering Transportation of Commodities

AGENCY: U.S. Census Bureau.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before September 7, 2010.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument(s) and instructions should be directed to Cynthia Davis Hollingsworth, Census Bureau, Room 8K047—South Building, Washington, DC 20233 (or via the Internet at cynthia.davis.hollingsworth@census.gov).

SUPPLEMENTARY INFORMATION

I. Abstract

The Census Bureau plans to conduct a Precanvass Operation in preparation for the 2012 Commodity Flow Survey to improve the efficiency and accuracy of the sample frame. The Commodity Flow Survey itself will be the subject of a later notice planned for publication in early 2011.

The Commodity Flow Survey, a component of the Economic Census, is the only comprehensive source of multimodal, system-wide data on the volume and pattern of goods movement in the United States. The Commodity Flow Survey is conducted in partnership with the Bureau of Transportation Statistics, Research and Innovative Technology Administration, U.S. Department of Transportation.

In conducting the Precanvass, the Census Bureau will mail a one-page questionnaire to manufacturing, mining, and wholesale establishments, enterprise support establishments, electronic shopping, mail-order houses, and publisher establishments, selected from its Business Register. The Precanvass will determine if these establishments are engaged in shipping activities, and if so obtain an estimate of the annual value of those shipments, along with updating address and contact information for the 2012 Commodity Flow Survey. Those establishments that do not engage in shipping activity will be eliminated from the sample frame. Identification and elimination of the non-shippers will significantly improve the efficiency of the sample for the 2012 Commodity Flow Survey. Also, those establishments excluded from the sample frame will be saved the added burden of receiving a 2012 Commodity Flow Survey.

II. Method of Collection

The Census Bureau will mail the Precanvass questionnaire to (a) enterprise support establishments in the Census Bureau's Business Register, and (b) the largest establishments in the industries listed in Section I that are likely to be included in the 2012 Commodity Flow Survey. The estimated size of the Precanvass mailing is 100,000 establishments.

The Census Bureau will use a mailout, mail-back or electronic reporting methodology, with telephone follow-up for selected nonresponse cases. General information on shipping activity and value of shipments will be collected via check box style questions. Contact information also will be collected and used to improve the mailing and follow-up activities for the 2012 Commodity Flow Survey.

III. Data

OMB Control Number: 0607-0932.

Form Number: CFS-0001.

Type of Review: Regular submission.

Affected Public: Businesses and other for-profit organizations.

Estimated Number of Respondents: 100,000.

Estimated Time per Response: 5 minutes.

Estimated Total Annual Burden Hours: 8,333.

Estimated Total Annual Cost: $266,666

Respondent's Obligation: Mandatory.

Legal Authority: Title 13, U.S.C. 131.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for Office of Management and Budget (OMB) approval of this information collection; they also will become a matter of public record.

Dated: June 30, 2010.
Glenna Mickelson,
Management Analyst, Office of the Chief Information Officer.

[FR Doc. 2010-16396 Filed 7-6-10; 8:45 am]

BILLING CODE 3510-07-P